DEPARTMENT OF TRANSPORTATION

Federal Aviation Administration

[Summary Notice No. PE-2004-39]

Petitions for Exemption; Dispositions of Petitions Issued

AGENCY: Federal Aviation Administration (FAA), DOT.

ACTION: Notice of dispositions of prior petitions.

SUMMARY: Pursuant to FAA's rulemaking provisions governing the application, processing, and disposition of petitions for exemption part 11 of title 14, Code of Federal Regulations (14 CFR), this notice contains a summary of certain dispositions of certain petitions previously received. The purpose of this notice is to improve the public's awareness of, and participation in, this aspect of FAA's regulatory activities.

FOR FURTHER INFORMATION CONTACT: Tim Adams (202) 267-8033, or Sandy Buchanan-Sumter (202) 267-7271, Office of Rulemaking (ARM-1), Federal Aviation Administration, 800 Independence Avenue, SW., Washington, DC 20591.

This notice is published pursuant to 14 CFR 11.85 and 11.91.

Issued in Washington, DC, on July 2, 2004.
Donald P. Byrne,
Assistant Chief Counsel for Regulations.

Dispositions of Petitions

Docket No.: FAA-2001-10876.

Petitioner: Experimental Aircraft Association, Inc.

Section of 14 CFR Affected: 14 CFR 91.319(a)(2), 119.5(g), and 119.21(a).

Description of Relief Sought/Disposition: To permit Experimental Aircraft Association, Inc., to operate the Boeing B-17G, N9563Z in addition to the Boeing B-17.

Grant, 6/18/2004 , Exemption No. 6541H.

Docket No.: FAA-2000-8533.

Petitioner: Israel Aircraft Industries, Ltd.

Section of 14 CFR Affected: 14 CFR 61.77(a).

Description of Relief Sought/Disposition: To permit pilots employed by or under contract to Israel Aircraft Industries to obtain special purpose pilot authorizations in order to perform certain flights of aircraft being delivered by Israel Aircraft Industries from its facilities within Israel, the U.S., and at a number of locations throughout the World, for Israel Aircraft Industries' U.S. and international customers, subject to certain conditions and limitations.

Grant, 6/18/2004, Exemption No. 7406C.

Docket No.: FAA-2001-10362.

Petitioner: Alpine Aviation, Inc., d.b.a. Alpine Air.

Section of 14 CFR Affected: 14 CFR 61.51(e)(1).

Description of Relief Sought/Disposition: To permit certain Alpine Air seconds in command who perform “the duties of pilot in command (PIC) under the supervision of a qualified PIC” to log their flight time in Beechcraft 99 and 1900 airplanes as PIC flight time.

Denial, 6/16/2004, Exemption No. 8343.

Docket No.: FAA-2004-17204.

Petitioner: Mr. Mike Vande Guchte.

Section of 14 CFR Affected: 14 CFR 135.251, 135.255, and 135.353, and appendices I and J to part 121.

Description of Relief Sought/Disposition: To permit Mr. Mike Vande Guchte to conduct local sightseeing flights to benefit Wings of Mercy at the Tulip City Airport, Holland, Michigan, on or about June 19, 2004, for compensation or hire, without complying with certain anti-drug and alcohol misuse prevention requirements of part 135.

Grant, 6/18/2004, Exemption No. 8345.

Docket No.: FAA-2002-12562.

Petitioner: Frontier Flying Service, Inc.

Section of 14 CFR Affected: 14 CFR 61.3(a) and (c) and 121.383(a)(2).

Description of Relief Sought/Disposition: To permit Frontier Flying Service, Inc., to issue to its pilot flight crewmembers written confirmation of an individual Federal Aviation Administration-issued crewmember certificate based upon information in the Frontier Flying Service's approved record system.

Grant, 6/17/2004, Exemption No. 8344.

Docket No.: FAA-2003-15381.

Petitioner: Amerijet International, Inc.

Section of 14 CFR Affected: 14 CFR 91.303(f) and 91.307(c).

Description of Relief Sought/Disposition: To permit Amerijet International, Inc., to operate a specially modified Boeing 727 aircraft, in accordance with Supplemental Type Certificate No. ST01051LA, on behalf of Zero-G in parabolic flight operations (1) when flight visibility is less than 3 statute miles and (2) without each occupant of the aircraft wearing an approved parachute when the pilot executes an intentional maneuver that exceeds a nose-up or nose-down altitude of 30 degrees relative to the horizon.

Grant, 5/18/2004, Exemption No. 8333.

Docket No.: FAA-2002-12009.

Petitioner: Chautauqua Airlines, Inc.

Section of 14 CFR Affected: 14 CFR 121.434(c)(1)(ii).

Description of Relief Sought/Disposition: To permit Chautauqua Airlines, Inc., to substitute a qualified and authorized check airman in place of an Federal Aviation Administration inspector to observe a qualifying pilot in command (PIC) while that PIC is performing prescribed duties during at least one flight leg that includes a takeoff and a landing when completing initial or upgrade training as specified in § 121.424.

Grant, 6/15/2004, Exemption No. 7353B.

Docket No.: FAA-2001-8870.

Petitioner: Massachusetts Institute of Technology.

Section of 14 CFR Affected: 14 CFR 91.319(c).

Description of Relief Sought/Disposition: To permit Massachusetts Institute of Technology to operate certain single-engine and multi-engine aircraft certified in the experimental category, over densely populated areas or in congested airways.

Grant, 6/15/2004, Exemption No. 5210H.

Docket No.: FAA-2002-12152.

Petitioner: Ameriflight, Inc.

Section of 14 CFR Affected: 14 CFR 135.143(c)(2).

Description of Relief Sought/Disposition: To permit Ameriflight, Inc., to operate certain aircraft under part 135 without a TSO-C112 transponder (Mode S) installed on those aircraft.

Grant, 6/15/2004, Exemption No. 6830C.

Docket No.: FAA-2000-7945.

Petitioner: The Boeing Company.

Section of 14 CFR Affected: 14 CFR 61.57(a) and (b).

Description of Relief Sought/Disposition: To permit The Boeing Company production and engineering flight test pilots to use any type of Boeing airplane or a Level B, C, or D simulator that represents Boeing aircraft listed in type certificate data sheets A6WE, A16WE, A20WE, A2NM, A1NM, and T00001SE to meet the takeoff and landing recency of experience requirements of § 61.57 in any one of those aircraft types without Boeing holding a part 142 certificate, subject to certain conditions and limitations.

Grant, 6/14/2004, Exemption No. 6843C.

Docket No.: FAA-2001-10425.

Petitioner: National Test Pilot School.

Section of 14 CFR Affected: 14 CFR 91.319(a)(1) and (2).

Description of Relief Sought/Disposition: To permit the National Test Pilot School to operate aircraft that have experimental certificates to train flight-test students, who are pilots and flight engineers, through the demonstration and practice of flight-test techniques and to teach those students flight-test data acquisition methods for compensation.

Grant, 6/14/2004, Exemption No. 5778I.

Docket No.: FAA-2003-15165.

Petitioner: Palmyra Airport, Inc.

Section of 14 CFR Affected: 14 CFR 135.251, 135.255, and 135.353, and appendices I and J to part 121.

Description of Relief Sought/Disposition: To permit Palmyra Airport, Inc., to conduct local sightseeing flights at the Palmyra Airport, Palmyra, Wisconsin, for sightseeing flights on June 20, 2004, for compensation or hire, without complying with certain anti-drug and alcohol misuse prevention requirements of part 135.

Grant, 6/14/2004, Exemption No. 8342.

Docket No.: FAA-2004-17684.

Petitioner: Mr. Lee S. Elson.

Section of 14 CFR Affected: 14 CFR 91.109(a) and (b)(3).

Description of Relief Sought/Disposition: To permit Mr. Lee S. Elson to conduct certain flight training and to provide simulated instrument flight experience in certain Beech airplanes that are equipped with a functioning throwover control wheel.

Grant, 6/9/2004, Exemption No. 8341.

Docket No.: FAA-2002-12455.

Petitioner: Air Transport Association of America, Inc.

Section of 14 CFR Affected: 14 CFR 61.3(a) and (c), 63.3(a), and 121.383(a)(2).

Description of Relief Sought/Disposition: To permit the member air carriers of the Air Transport Association of America, Inc., to issue written confirmation of an Federal Aviation Administration-issued crewmember certificate to a flight crewmember employed by that air carrier based on information in the air carrier's approved record system.

Grant, 6/9/2004, Exemption No. 5487F.

Docket No.: FAA-2004-18018.

Petitioner: Crossville Memorial Airport.

Section of 14 CFR Affected: 14 CFR 135.251, 135.255, 135.353, and appendices I and J to part 121.

Description of Relief Sought/Disposition: To permit Crossville Memorial Airport to conduct local sightseeing flights at the Crossville Airport, Crossville, TN, for charity on June 12, 2004, for compensation or hire, without complying with certain anti-drug and alcohol misuse prevention requirements of part 135.

Grant, 6/9/2004, Exemption No. 8340.

Docket No.: FAA-2004-17923.

Petitioner: EAA Warbirds of America Squadron 14, Inc.

Section of 14 CFR Affected: 14 CFR 61.63(d)(5).

Description of Relief Sought/Disposition: To permit EAA Warbirds of America Squadron 14, Inc. (Squadron 14), pilots to conduct nonstop sightseeing or demonstration flights for compensation or hire within 25 statute miles of the departure airport in Squadron 14's Douglas DC-3 (DC-3) airplane (registration No. N2805J, serial No. 20835) without those pilots having completed the practical test for a DC-3 type rating in actual or simulated instrument conditions.

Denial, 6/8/2004, Exemption No. 8339.

Docket No.: FAA-2004-18021.

Petitioner: Safari Aviation, Inc.

Section of 14 CFR Affected: 14 CFR 135.143(c)(2).

Description of Relief Sought/Disposition: To permit Safari Aviation, Inc., to operate certain aircraft under part 135 without a TSO-C112 (Mode S) transponder installed on those aircraft.

Grant, 6/8/2004, Exemption No. 8338.

Docket No.: FAA-2004-17389.

Petitioner: Red Baron Flyers, Inc.

Section of 14 CFR Affected: 14 CFR 135.251, 135.255, and 135.353, and appendices I and J to part 121.

Description of Relief Sought/Disposition: To permit Red Baron Flyers, Inc., a nonprofit organization, to conduct local sightseeing flights at its annual Fly-In Breakfast at the Houston County Airport, during, June 2004, for compensation or hire, without complying with certain anti-drug and alcohol misuse prevention requirements of part 135.

Grant, 6/18/2004, Exemption No. 8346.

Docket No.: FAA-2003-16343.

Petitioner: Angel Flight South Central.

Section of 14 CFR Affected: 14 CFR 61.113(d)(1)(i), (ii), and (6).

Description of Relief Sought/Disposition: To permit Angel Flight South Central (AFSC) to solicit funds from numerous corporations to support individual missions flown by AFSC pilots.

Denial, 06/21/2004, Exemption No. 8347.

[FR Doc. 04-15550 Filed 7-7-04; 8:45 am]

BILLING CODE 4910-13-P